Title 3—

The President

Proclamation 10803 of September 5, 2024

National Days of Prayer and Remembrance, 2024

By the President of the United States of America

A Proclamation

Twenty-three years ago—on September 11, 2001—2,977 precious lives were ripped from us in an evil attack on our Nation. During these solemn days, we renew our sacred vow: Never Forget. Never forget the loved ones we lost. Never forget the first responders who ran toward the rubble to save others. Never forget the hundreds of thousands of patriots who signed up to serve in the years after. And never forget that, when an enemy tried to tear us apart, our country came together. We stood united.

While every year we mark this hallowed day, it is never easier. To all those who are grieving a lost child, parent, spouse, sibling, friend, or coworker—and to all those who still bear the wounds from that September morning—I know how hard this time can be. It can reopen that black hole in your chest, bringing you back to the moment you saw the news or the moment you got the phone call. Today and every day, the First Lady and I are holding you close to our hearts.

We are also thinking of all the families of Americans who showed extraordinary bravery, selflessness, and sacrifice that day. They are the firefighters, police officers, and first responders who ran into the inferno of jet fuel and debris at Ground Zero and refused to stop searching for months. They are the civilians and service members at the Pentagon who rushed into the fiery breach to rescue their colleagues. They are the passengers of Flight 93, who confronted terror with absolute courage. They are the heroes who signed up to serve and defend our homeland from future attacks. And they include every American—from communities across our country—who stepped up and stood together.

Today—as we remember all those we lost on that searing September day 23 years ago—let us renew our faith in one another. Let us continue to seek light, even in the darkest of hours. And drawing from their example, let us resolve to continue building a Nation that stands as a beacon of liberty and justice for all. That is the truest memorial to their lives—our actions, every day, to ensure that our democracy endures, that our freedom endures, and that the very soul of our Nation endures.

NOW, THEREFORE, I, JOSEPH R. BIDEN JR., President of the United States of America, by virtue of the authority vested in me by the Constitution and the laws of the United States, do hereby proclaim September 6, 2024, through September 8, 2024, as National Days of Prayer and Remembrance. I ask that the people of the United States honor the victims of September 11, 2001, and their loved ones with prayer, contemplation, memorial services and visits, bells, candlelight vigils, and other activities. I invite people around the world to join. I call on the citizens of our Nation to give thanks for our many freedoms and blessings, and I invite all people of faith to join me in asking for God's continued guidance, mercy, and protection.

IN WITNESS WHEREOF, I have hereunto set my hand this fifth day of September, in the year of our Lord two thousand twenty-four, and of the Independence of the United States of America the two hundred and forty-ninth.

[FR Doc. 2024-20603

Filed 9-9-24; 8:45 am]

Billing code 3395-F4-P